DEPARTMENT OF HOUSING AND URBAN DEVELOPMENT

[Docket No. FR-4904-N-10]

Notice of Proposed Information Collection to OMB Comment Request Self-Help Homeownership Opportunity Program (SHOP)

AGENCY: Office of the Assistant Secretary for Community Planning and Development, HUD.

ACTION: Notice of proposed information collection.

SUMMARY: The proposed information collection requirement described below will be submitted to the Office of Management and Budget (OMB) for review, as required by the Paperwork Reduction Act. The Department is soliciting public comments on the subject proposal.

DATES: Comment Due Date: November 2, 2004.

ADDRESSES: Interested persons are invited to submit comments regarding this proposal. Comments should refer to the proposal by name and/or OMB Control Number and should be sent to: Shelia Jones, Reports Liaison Officer, Department of Housing Urban and Development, 451 7th Street, SW., Room 7232, Washington, DC 20410.

FOR FURTHER INFORMATION CONTACT: Louise D. Thompson, Department of Housing and Urban Development, 451 Seventh Street, Southwest, Washington, DC 20410; e-mail Louise_D._Thompson@HUD.gov; telephone (202) 708-2470 (this is not a toll-free number) for copies of the proposed forms and other available information.

SUPPLEMENTARY INFORMATION: The Department is submitting the proposed information collection to OMB for review, as required by the Paperwork Reduction Act of 1995 (44 U.S.C. Chapter 35, as Amended).

This Notice is soliciting comments from members of the public and affecting agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

SHOP provides funds for eligible non-profit organizations to purchase home sites and develop or improve the infrastructure needed to set the stage for sweat equity and volunteer-based homeownership programs for low-income persons and families. SHOP is authorized by the Housing Opportunity Program Extension Act of 1996, Section 11, and is subject to other Federal crosscutting requirements. SHOP funds are used for eligible expenses to develop decent, safe and sanitary non-luxury housing for low-income persons and families who otherwise would not become homeowners. Homebuyers must be willing to contribute significant amounts of their own sweat equity toward the construction of the housing units. HUD awards grants to national or regional nonprofit public or private organizations or consortia for self-help housing projects of at least 30 homes.

This Notice also lists the following information:

Title of Proposal: Self-Help Homeownership Opportunity Program (SHOP).

OMB Control Number, if applicable: OMB Control Number: 2506-0157, Expiration Date: August 31, 2004.

Description of the need for the information and proposed use: This is a proposed information collection for reporting requirements under SHOP. SHOP grants are used to fund acquisition and infrastructure improvements to new self-help housing projects, to be occupied by persons meeting the definition of low-income. Grant recipients are required to report to HUD on a quarterly and annual basis regarding the success of their SHOP programs. Information collected from SHOP recipients includes proposed accomplishments, actual accomplishments, and financial, unit and beneficiary information. The information collected will be used by HUD to assess the performance of SHOP grant recipients and the success of the program.

Agency form numbers, if applicable: HUD-424, HUD-424B, HUD-424CB, SF-LLL, HUD-2880, HUD-2990, HUD-2993, HUD-40215, HUD-40216, HUD-40217, HUD-40218, HUD-40219, and HUD-40220.

Estimation of the total numbers of hours needed to prepare the information collection including number of respondents, frequency of response, and hours of response:

Paperwork requirement | Frequency of response | Hours per response | Number of respondents | Annual hour burden
HUD-424 | 1 | 0.25 | 9 | 2.25
HUD-424B | 1 | 0.25 | 9 | 2.25
HUD-424CB | 1 | 2.00 | 9 | 18.00
SF-LLL | 1 | 0.25 | 9 | 2.25
HUD-2880 | 1 | 0.25 | 9 | 2.25
HUD-2990 | 1 | 0.50 | 9 | 4.50
HUD-2993 | 1 | 0 | 9 | 0
Rating factor 1 | 1 | 4.00 | 9 | 36.00
Rating factor 2 | 1 | 4.00 | 9 | 36.00
Rating factor 3 | 1 | 6.00 | 9 | 54.00
Rating factor 4 | 1 | 3.00 | 9 | 27.00
Rating factor 5 | 1 | 4.00 | 9 | 36.00
HUD-40215 | 4 | 2.25 | 16 | 144.00
HUD-40216 | 1 | 9.00 | 16 | 144.00
HUD-40217 | 4 | 2.25 | 16 | 144.00
HUD-40218 | 4 | 2.25 | 912 | 8,208.00
HUD-40219 | 1 | 0.50 | 5 | 2.50
HUD-40220 | 4 | 0.50 | 16 | 32.00
Total annual hour burden |  |  |  | 8,895.00

Status of the proposed information collection: Revision of a currently approved collection.

Authority: The Paperwork Reduction Act of 1995, 44 U.S.C. Chapter 35, as amended.

Dated: August 27, 2004.
Nelson R. Begón,
General Deputy Assistant Secretary for Community Planning and Development.

[FR Doc. 04-20077 Filed 9-2-04; 8:45 am]

BILLING CODE 4210-29-M